OFFICE OF MANAGEMENT AND BUDGET

Public Availability of Year 2004 Agency Inventories Under the Federal Activities Inventory Reform Act of 1998 (Pub. L. 105-270) (“FAIR Act”)

AGENCY: Office of Management and Budget Executive Office of the President.

ACTION: Notice of public availability of agency inventory of activities that are not inherently governmental and of activities that are inherently governmental.

SUMMARY: In accordance with the “Federal Activities Inventory Reform Act of 1998” (Pub. L. 105-270) (“FAIR Act”), agency inventories of activities that are not inherently governmental are now available to the public from the agencies listed below. The FAIR Act requires that OMB publish an announcement of public availability of agency inventories of activities that are not inherently governmental upon completion of OMB's review and consultation process concerning the content of the agencies' inventory submissions. After review and consultation with OMB, agencies make their inventories available to the public, and these inventories also include activities that are inherently governmental. This is the first release of the 2004 FAIR Act inventories. Interested parties who disagree with the agency's initial judgment can challenge the inclusion or the omission of an activity on the list of activities that are not inherently governmental within 30 working days and, if not satisfied with this review, may demand a higher agency review/appeal.

The Office of Federal Procurement Policy has made available a FAIR Act User's Guide through its Internet site: http://www.whitehouse.gov/OMB/procurement/fair-index.html. This User's Guide will help interested parties review 2004 FAIR Act inventories, and gain access to agency inventories through agency Web site addresses.

Joshua B. Bolten,
Director.

Attachment

First Fair Act Release 2004
Armed Forces Retirement Home | Mr. Steve McManus, (202) 730-3533 www.afrh.com.
Chemical Safety Board | Ms. Bea Robinson, (202) 261-7627 www.csb.gov.
Commission on Fine Arts | Mr. Frederick Lindstrom, (202) 504-2200 www.cfa.gov.
Committee for Purchase from People Who are Blind or Severely Disabled | Mr. Leon Wilson, 703-604-7740 www.jwod.gov.
Consumer Product Safety Commission | Mr. Edward Quist, (301) 504-7655 www.cpsc.gov.
Council on Environmental Quality | Mr. Ted Boling, (202) 395-3449 www.whitehouse.gov./ceq.
Department of Energy | Mr. Dennis O'Brien, (202) 586-1690 www.doe.gov.
Department of Health and Human Services | Mr. Michael Colvin, (202) 690-7887 www.hhs.gov./ogam/oam/fair/.
Department of Transportation | Mr. David Litman, (202) 366-4263 www.dot.gov.
Department of Transportation (IG) | Ms. Jackie Weber, (202) 366-1495 www.oig.dot.gov.
Federal Communications Commission IG | Mr. Charles Willoughby, (202) 418-0472 www.fcc.gov/oig.
Federal Energy Regulatory Commission | Ms. Kimberly Fernandez, (202) 208-1298 www.ferc.gov.
Federal Mine Safety and Health Review Commission | Mr. Richard Baker, (202) 434-9905 www.fmshrc.gov.
Holocaust Museum | Ms. Helen Shepherd, (202) 314-0396 www.ushmm.gov.
Institute of Museum and Library Services | Ms. Teresa LaHaie, (202) 606-8637 www.imls.gov.
International Trade Commission | Mr. Stephen McLaughlin, (202) 205-3131 www.usitc.gov.
Japan-United States Friendship Commission | Ms. Margaret Mihori, (202) 418-9800 office.jusfc.gov/commissn/FAIRAct.htm.
Kennedy Center | Mr. Jared Barlage, (202) 416-8731 www.kennedy-center.org.
National Aeronautics and Space Administration | Mr. Kenneth Sateriale, (202) 358-0491 www.nasa.gov.
National Commission on Libraries and Information Sciences | Ms. Madeleine McCain, (202) 606-9200 www.nclis.gov.
National Council on Disability | Ms. Ethel Briggs, (202) 272-2004 www.ncd.gov.
National Gallery of Art | Mr. William Roache, (202) 842-6329 www.nga.gov.
National Labor Relations Board | Mr. Emil George, (202) 273-1966 www.nlrb.gov.
National Labor Relations Board (IG) | Mr. Emil George, (202) 273-1966 www.nlrb.gov/ig/igindex.htm.
National Science Foundation | Mr. Joseph Burt, (703) 292-5034 www.nsf.gov.
Nuclear Regulatory Commission | Ms. Kathryn Greene, (301) 415-7305 www.nrc.gov.
Nuclear Regulatory Commission (OIG) | Mr. David Lee, (301) 415-5930 www.nrc.gov/insp-gen.html.
Occupational Safety and Health Review Commission | Ms. Ledia Bernal, (202) 606-5390 www.oshrc.gov.
Office of Navaho and Hopi Indian Relocation | Ms. Nancy Thomas, (928) 779-2721 www.whitehouse.gov/omb/procurement/fair_list_nosite.html.
Office of Science and Technology Policy | Ms. Ann Mazur, (202) 456-6001 www.ostp.gov.
Railroad Retirement Board | Mr. Henry Valiulius, (312) 751-4520 www.rrb.gov.
Railroad Retirement Board (Inspector General) | Ms. Henrietta Shaw, (312) 751-4345 www.rrb.gov/oig/Rrboig.htm.
Smithsonian Institution | Ms. Alice Maroni, (202) 275-2020 www.si.edu.
Social Security Administration | Mr. Jaime Fisher, (410) 965-7401 www.ssa.gov.
White House Commission of National Moment of Remembrance | Ms. Tina Harmon, (512) 460-5220 www.whitehouse.gov/omb/procurement/fair _list_nosite.html.

[FR Doc. 04-25471 Filed 11-16-04; 8:45 am]

BILLING CODE 3110-01-P